DEPARTMENT OF TRANSPORTATION

Pipeline and Hazardous Materials Safety Administration

[Docket No. PHMSA-2018-0105]

Pipeline Safety: Request for Special Permit; Gulfstream Natural Gas System

AGENCY: Pipeline and Hazardous Materials Safety Administration (PHMSA); DOT.

ACTION: Notice.

SUMMARY: PHMSA is publishing this notice to seek public comments on a request for a special permit seeking relief from compliance with certain requirements in the federal pipeline safety regulations. At the conclusion of the 30-day comment period, PHMSA will review the comments received from this notice as part of its evaluation to either grant or deny the special permit request.

DATES: Submit any comments regarding this special permit request by August 28, 2019.

ADDRESSES: Comments should reference the docket number for the specific special permit request and may be submitted in the following ways:

• E-Gov website: https://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at https://www.Regulations.gov.

Note: There is a privacy statement published on https://www.Regulations.gov. Comments, including any personal information provided, are posted without changes or edits to https://www.Regulations.gov.

FOR FURTHER INFORMATION CONTACT:

General: Ms. Kay McIver by telephone at 202-366-0113, or email at kay.mciver@dot.gov.

Technical: Mr. Zaid Obeidi by telephone at 202-366-5267, or email at zaid.obeidi@dot.gov.

SUPPLEMENTARY INFORMATION: PHMSA has received a special permit request from Gulfstream Natural Resources, LLC, to deviate from the federal pipeline safety regulations in 49 CFR 192.619(a) and 192.195(a) on the Gulfstream Natural Gas System (Gulfstream Pipeline). The proposed special permit, if granted, would allow an increase in the maximum allowable operating pressure (MAOP) from 2,180 pounds per square inch gauge (psig) to 2,296 psig from Gulfstream Pipeline Mile Post 3.9 to Mile Post 59 and the use of pressure gradient for pressure control to maintain a MAOP of 2,180 psig downstream of Mile Post 59. The Gulfstream Pipeline segment, where the proposed special permit would be applicable, is from Mile Post 3.9 in Mobile County, Alabama to the Gulfstream Pipeline west subsea tie-in valves located at Mile Post 59 in the Gulf of Mexico, Outer Continental Shelf.

Gulfstream Pipeline is proposing a gas transmission flow volume increase of 78,000 dekatherms per day. A Gulfstream Pipeline MAOP increase from 2,180 psig to 2,296 psig will be required from Mile Post 0.0 to Mile Post 59. The Gulfstream 36-inch diameter piping, valves, and components from Mile Post 0.0 to Mile Post 3.9 will be replaced and pressure tested, where required, to meet part 192 regulations for a 2,296 psig MAOP.

The Gulfstream Pipeline is a 36-inch diameter pipeline that spans approximately 427 miles from southern Alabama, across the bottom of the Gulf of Mexico, to the Tampa Bay, Florida region. The Gulfstream Pipeline begins at Compressor Station 410, an existing natural gas compressor station located in Mobile County near Coden, Alabama, travels offshore into the Gulf of Mexico, and ends at Compressor Station 420 located in Manatee County near Bartow, Florida.

A draft environmental assessment (DEA) accompanied the special permit request. The DEA is available at https://www.Regulations.gov, in Docket Number PHMSA-2018-0105. We invite interested persons to participate by reviewing the special permit request and DEA at https://www.Regulations.gov, and by submitting written comments, data, or other views. Please include any comments on potential safety and environmental impacts that may result if the special permit is granted.

Before issuing a decision on the special permit request, PHMSA will evaluate all comments received on or before the comment closing date. Comments received after the closing date will be evaluated if it is possible to do so without incurring additional expense or delay. PHMSA will consider each relevant comment we receive in making our decision to grant or deny the request.

Issued in Washington, DC on July 8, 2019, under authority delegated in 49 CFR 1.97.
Alan K. Mayberry,
Associate Administrator for Pipeline Safety.

[FR Doc. 2019-15992 Filed 7-26-19; 8:45 am]

BILLING CODE 4910-60-P